EXPORT-IMPORT BANK OF THE UNITED STATES

Economic Impact Policy

This notice is to inform the public that the Export-Import Bank of the United States has received an application to finance the export of approximately $22.3 million in U.S. equipment to a producer of denim in Turkey. The exports will expand the Turkish buyer's current production of denim by about 15 million square meters per year. Available information indicates that the denim will be sold in Turkey, Europe and the Former Soviet Union, starting in the latter part of 2005. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 05-12028 Filed 6-17-05; 8:45 am]

BILLING CODE 6690-01-P